DEPARTMENT OF AGRICULTURE

Animal and Plant Health Inspection Service

9 CFR Part 77

[Docket No. 03-072-1]

Tuberculosis in Cattle and Bison; State and Zone Designations; Delay of Compliance Date

AGENCY: Animal and Plant Health Inspection Service, USDA.

ACTION: Interim rule; delay of compliance date.

SUMMARY: When we amended the bovine tuberculosis regulations to classify the States of Texas, California, and New Mexico as modified accredited advanced, we delayed the date for compliance with certain identification and certification requirements in those regulations until September 30, 2003. In this action, we are further delaying the date for compliance until March 30, 2004.

DATES: The date for complying with certain requirements of 9 CFR 77.10 for sexually intact heifers, steers, and spayed heifers moving interstate from the States of Texas, California, and New Mexico is March 30, 2004. (See “Delay in Compliance” under SUPPLEMENTARY INFORMATION.)

FOR FURTHER INFORMATION CONTACT: Dr. Terry Beals, Senior Staff Veterinarian, Eradication and Surveillance Team, National Center for Animal Health Programs, VS, APHIS, 4700 River Road Unit 43, Riverdale, MD 20737-1231; (301) 734-5467.

SUPPLEMENTARY INFORMATION:

Background

Federal regulations implementing the National Cooperative State/Federal Bovine Tuberculosis Eradication Program are contained in 9 CFR part 77, “Tuberculosis” (referred to below as the regulations), and in the “Uniform Methods and Rules—Bovine Tuberculosis Eradication” (UMR), which is incorporated by reference into the regulations. The regulations restrict the interstate movement of cattle, bison, and captive cervids to prevent the spread of bovine tuberculosis. Subpart B of the regulations contains requirements for the interstate movement of cattle and bison not known to be infected with or exposed to tuberculosis. The interstate movement requirements depend upon whether the animals are moved from an accredited-free State or zone, modified accredited advanced State or zone, modified accredited State or zone, accreditation preparatory State or zone, or nonaccredited State or zone.

Under the regulations in § 77.10, cattle and bison that originate in a modified accredited advanced State or zone and that are not known to be infected with or exposed to tuberculosis must meet certain identification, certification, and testing requirements prior to being moved interstate.

Delay in Compliance

We recently published several interim rules that amended the regulations by changing the classification of the States of Texas, California, and New Mexico from accredited free to modified accredited advanced and that delayed compliance with certain provisions of § 77.10 until September 30, 2003. The interim rule that amended the classification of Texas was effective June 3, 2002, and published in the Federal Register on June 6, 2002 (67 FR 38841-38844, Docket No. 02-021-1); in a document published in the Federal Register on December 31, 2002, the compliance date for certain provisions of § 77.10 was extended from January 1, 2003, to September 30, 2003 (67 FR 79836-79837, Docket No. 02-021-3). The interim rule that amended the classification of California was effective and published in the Federal Register on April 25, 2003 (68 FR 20333-20336, Docket No. 03-005-1). The compliance date for certain provisions of § 77.10 was September 30, 2003. The interim rule that amended the classification of New Mexico was effective and published in the Federal Register on July 24, 2003 (68 FR 43618-43621, Docket No. 03-044-1). Again, the compliance date for certain provisions of § 77.10 was September 30, 2003.

The specific provisions of § 77.10 that have a delayed compliance date are:

• The identification of sexually intact heifers moving to approved feedlots and steers and spayed heifers moving to any destination (§ 77.10(b));

• The identification requirements for sexually intact heifers moving to feedlots that are not approved feedlots (§ 77.10(d)); and

• Because identification is required for certification, the certification requirements for sexually intact heifers moving to unapproved feedlots (§ 77.10(d)).

Initially, we delayed the compliance with these requirements for the State of Texas for two reasons. First, the size of the cattle industry in Texas necessitated additional time to implement the identification requirements of the regulations. Second, some cattle that had begun moving through channels prior to the change in Texas' tuberculosis status would not have been identified at their premises of origin. In addition, we subsequently delayed the compliance date in response to comments received on the interim rule that classified Texas as modified accredited advanced and that also solicited comments on the current regulatory provisions of the domestic bovine tuberculosis eradication program. The compliance date was delayed for California and New Mexico to provide equitable treatment for producers in California and New Mexico.

Based on the comments that we received on the interim rule for Texas, it appears that the tuberculosis risk associated with the movement of nonbreeding cattle from modified accredited advanced States or zones through feeder channels to slaughter is low and that identification requirements for certain cattle destined for slaughter may be unnecessary. Therefore, we are considering proposing several changes to the regulations as a result of those comments and are further delaying the date for compliance with the identification and certification requirements of § 77.10(b) and (d) for nonbreeding cattle until March 30, 2004. As stated in the interim rule for Texas, this delay in compliance does not apply to the movement of cattle from the former modified accredited advanced zone in El Paso and Hudspeth Counties, TX.

Authority: 7 U.S.C. 8301-8317; 7 CFR 2.22, 2.80, and 371.4.

Done in Washington, DC, this 5th day of August 2003.
Peter Fernandez,
Acting Administrator, Animal and Plant Health Inspection Service.

[FR Doc. 03-20248 Filed 8-7-03; 8:45 am]

BILLING CODE 3410-34-P